DEPARTMENT OF COMMERCE

Census Bureau

Bureau of Economic Analysis

Agency Information Collection Activities: Submission to the Office of Management and Budget (OMB) for Review and Approval; Comment Request

AGENCY: U.S. Census Bureau and the U.S. Bureau of Economic Analysis, Commerce.

ACTION: Notice.

SUMMARY: The U.S. Census Bureau and the U.S. Bureau of Economic Analysis within the U.S. Department of Commerce invite the general public and other Federal agencies to comment on a proposed information collection. The U.S. Census Bureau and the U.S. Bureau of Economic Analysis plan to collect information from the public to fulfill their data security requirements when providing access to restricted use microdata for the purpose of evidence building. The U.S. Census Bureau and U.S. Bureau of Economic Analysis's data security agreements and other paperwork along with the corresponding security protocols allow the U.S. Census Bureau and the U.S. Bureau of Economic Analysis to maintain careful controls on confidentiality and privacy, as required by law. The purpose of this notice is to allow for 60 days of public comment on the proposed data security information collection, prior to submission of the information collection request (ICR) to the Office of Management and Budget (OMB).

DATES: Written comments on this notice must be received by January 9, 2023 to be assured of consideration. Comments received after that date will be considered to the extent practicable. Send comments to the address below.

FOR FURTHER INFORMATION CONTACT:

Heather Madray, Senior Research Review Coordinator, U.S. Census Bureau, 4600 Silver Hill Road, Washington, DC 20233; telephone (301) 763-1484; or send email to heather.madray@census.gov.

James Fetzer, Research Data Center Administrator, U.S. Bureau of Economic Analysis, 4600 Silver Hill Road, Washington, DC 20233; telephone (301) 278-9124; or send email to james.fetzer@bea.gov.

Individuals who use a telecommunications device for the deaf (TDD) may call the Federal Information Relay Service (FIRS) at 1-800-877-8339, which is accessible 24 hours a day, 7 days a week, 365 days a year (including Federal holidays).

SUPPLEMENTARY INFORMATION:

Comments: Comments are invited on (a) whether the proposed collection of information is necessary for the proper performance of the functions of the U.S. Census Bureau and the U.S. Bureau of Economic Analysis, including whether the information will have practical utility; (b) the accuracy of the U.S. Census Bureau and the U.S. Bureau of Economic Analysis's estimate of the burden of the proposed collection of information; (c) ways to enhance the quality, use, and clarity of the information on respondents, including through the use of automated collection techniques or other forms of information technology; and (d) ways to minimize the burden of the collection of information on those who are to respond, including through the use of appropriate automated, electronic, mechanical, or other technological collection techniques or other forms of information technology.

The Foundations for Evidence-Based Policymaking Act of 2018 mandates that the Office of Management and Budget (OMB) establish a Standard Application Process (SAP) for requesting access to certain confidential data assets. The SAP is to be a process through which agencies, the Congressional Budget Office, State, local, and Tribal governments, researchers, and other individuals, as appropriate, may apply to access confidential data assets held by a federal statistical agency or unit for the purposes of developing evidence. The SAP Portal is to be a single web-based common application for the public to request access to confidential data assets from federal statistical agencies and units. The National Center for Science and Engineering Statistics (NCSES), within the National Science Foundation (NSF), submitted a Federal Register Notice in September 2022 announcing plans to collect information through the SAP Portal (87 FR 53793).

Once an application for confidential data is approved through the SAP Portal, the U.S. Census Bureau and the U.S. Bureau of Economic Analysis will collect information to meet its data security requirements. This collection will occur outside of the SAP Portal.

Title of collection: Data Security Requirements for Accessing Confidential Data.

OMB Control Number: 0607-NEW.

Expiration Date of Current Approval: Not Applicable.

Type of Review: Regular Submission.

Affected Public: Members of the public who are seeking a security clearance with either the U.S. Census Bureau or the U.S. Bureau of Economic Analysis.

Estimated Number of Respondents: 640.

Estimated Time per Response: 57 minutes for the U.S. Bureau of Economic Analysis and 345 minutes for the U.S. Census Bureau; This estimate includes completion of paperwork and training requirements.

Estimated Total Annual Cost to the Public: $1.59 million.

Respondent's Obligation: Mandatory.

Legal Authority: 13 U.S.C. Sections 9 and 23(c) for Census; 22 U.S.C. Section 3104 and 15 CFR part 80 for BEA.

Abstract: Title III of the Foundations for Evidence-Based Policymaking Act of 2018 (hereafter referred to as the Evidence Act) mandates that OMB establish a Standard Application Process (SAP) for requesting access to certain confidential data assets. Specifically, the Evidence Act requires OMB to establish a common application process through which agencies, the Congressional Budget Office, State, local, and Tribal governments, researchers, and other individuals, as appropriate, may apply for access to certain confidential data assets collected, accessed, or acquired by a statistical agency or unit. This new process will be implemented while maintaining stringent controls to protect confidentiality and privacy, as required by the law governing the data-owning agency.

Data collected, accessed, or acquired by statistical agencies and units is vital for developing evidence on conditions, characteristics, and behaviors of the public and on the operations and outcomes of public programs and policies. This evidence can benefit the stakeholders in the programs, the broader public, as well as policymakers and program managers at the local, State, Tribal, and National levels. The many potential benefits of access to data for evidence building notwithstanding, the U.S. Census Bureau and the U.S. Bureau of Economic Analysis are required by the law governing their activities to maintain controls to protect the confidentiality and privacy of the data they collect.

The SAP Portal is a web-based application for the public to request access to confidential data assets from federal statistical agencies and units. The objective of the SAP Portal is to increase public access to confidential data for the purposes of evidence building and reduce the burden of applying for such access. Once an individual's application in the SAP Portal has received a positive determination by the data-owning agency, the data-owning agency(ies) or unit(s) will begin the process of collecting information to fulfill their data security requirements.

The paragraphs below outline the the process for BEA and Census to collect information fulfilling their data security requirements, consistent with their statutory requirements.

Collection of Information for Data Security Requirements

In the instance of a positive determination for an application requesting access to a U.S. Census Bureau and/or a U.S. Bureau of Economic Analysis confidential data asset through the SAP process, the U.S. Census Bureau and/or the U.S. Bureau of Economic Analysis will contact the applicant(s) to initiate the process of collecting information to fulfill their security requirements. These requirements include additional information necessary for the statistical agency or unit to place the applicant(s) in a trusted category that may include the applicant's successful completion of a background investigation, confidentiality training, nondisclosure, and data use agreements.

The U.S. Census Bureau and the U.S. Bureau of Economic Analysis's data security requirements include the collection of all or some of the following information. The agency that requires each individual form is noted below:

• Form BC-1759, Special Sworn Status—U.S. Census Bureau

• Form CD-591, Department of Commerce Personal Identity Verification (PIV) Request—U.S. Census Bureau

• Fair Credit Release—U.S. Census Bureau

• Selective Service Form—U.S. Census Bureau

• Foreign National Residence History—U.S. Census Bureau

• Initial Information Sheet—U.S. Census Bureau

• Researcher Semi-Annual Contact Information and Travel History Update—U.S. Census Bureau

• Sworn Statement (Affirmation) of Nondisclosure for Consultant to BEA—U.S. Bureau of Economic Analysis

• Annual Census Bureau Data Handling University Training, including:

○ Data Stewardship & Controlled Unclassified Information (CUI)

○ Title 13 Awareness Course

○ Title 26 Awareness Training

○ Cybersecurity Awareness & Protection Course

• Annual Census Bureau Records Management Training

• Annual Bureau of Economic Analysis Title 26 Awareness Training

• Annual Bureau of Economic Analysis Data Stewardship and IT Security Training

• Annual Bureau of Economic Analysis Records Management 101 Training

• Annual Bureau of Economic Analysis Active Shooter Training

• Annual Bureau of Economic Analysis Employees Safety Training

Estimate of Burden: The amount of time to complete the agreements and other paperwork that comprise the U.S. Census Bureau and the U.S. Bureau of Economic Analysis's security requirements will vary based on the confidential data assets requested and the access modality. To obtain access to U.S. Census Bureau and U.S. Bureau of Economic Analysis confidential data assets, it is estimated that the average time to complete and submit the U.S. Census Bureau and the U.S. Bureau of Economic Analysis's data security agreements and other paperwork is 45 minutes for the U.S. Census Bureau and 12 minutes for the U.S. Bureau of Economic Analysis. This estimate does not include the time needed to complete and submit an application within the SAP Portal. All efforts related to SAP Portal applications occur prior to and separate from the U.S. Census Bureau and the U.S. Bureau of Economic Analysis's effort to collect information related to data security requirements. In addition, annual trainings are required to obtain and maintain a security clearance. It is estimated that the average time to complete the Census Bureau's Data Handling University and Records Management Training is 300 minutes.

The expected number of applications in the SAP Portal that receive a positive determination from the U.S. Census Bureau and the U.S. Bureau of Economic Analysis in a given year may vary. Overall, per year, the U.S. Census Bureau and the U.S. Bureau of Economic Analysis estimate they will collect data security information for a total of 260 application submissions that received a positive determination within the SAP Portal. The U.S. Census Bureau and the U.S. Bureau of Economic Analysis estimate that the total burden for the collection of information for data security requirements and completion of training over the course of the three-year OMB clearance will be about 10,503 hours and, as a result, an average annual burden of 3,501 hours.

Sheleen Dumas,
Department PRA Clearance Officer, Office of the Chief Information Officer, Commerce Department.

[FR Doc. 2022-24593 Filed 11-9-22; 8:45 am]

BILLING CODE 3510-07-P